NATIONAL TRANSPORTATION SAFETY BOARD

Sunshine Act Meeting

Time and Place: 9:30 a.m., Tuesday, November 19, 2002.

Place: NTSB Conference Center, 429 L'Enfant Plaza SW., Washington, DC 20594.

Status: The One Item is Open to the Public.

Matter to be Considered: 7508 Railroad Accident Report—Collision of Two Canadian National/Illinois Central Railway Trains near Clarkston, Michigan, November 15, 2001.

News Media Contact: Telephone: (202) 314-6100.

Individuals requesting specific accommodations should contact Ms. Carolyn Dargan at (202) 314-6305 by Friday, November 15, 2002.

FOR FURTHER INFORMATION CONTACT: Vicky D'Onofrio, (202) 314-6410.

Dated: November 8, 2002.
Vicky D'Onofrio,
Federal Register Liaison Officer.

[FR Doc. 02-28947 Filed 11-8-02; 3 pm]

BILLING CODE 7533-01-M